DEPARTMENT OF ENERGY

Federal Energy Regulatory Commission

Combined Notice of Filings # 1

Take notice that the Commission received the following electric rate filings:

Docket Numbers: ER10-1790-023; ER10-2273-005; ER10-2468-005; ER10-2481-007; ER10-2597-007; ER10-3196-005; ER11-2041-018; ER11-2042-018; ER12-1825-037; ER13-33-008; ER14-2672-024; ER21-1716-005; ER22-2519-003; ER23-1470-001; ER23-1476-001.

Applicants: Cottontail Solar 8, LLC, Cottontail Solar 2, LLC, Bellflower Solar 1, LLC, BP Energy Company, BP Energy Retail Company LLC, Collegiate Clean Energy, LLC, BP Energy Retail Company California LLC, Seneca Energy, II LLC, Innovative Energy Systems, LLC, PEI Power LLC, Fowler Ridge III Wind Farm LLC, Ingenco Wholesale Power, L.L.C., Fowler Ridge Wind Farm LLC, PEI Power II, LLC, BP Energy Company.

Description: Triennial Market Power Analysis for Northeast Region of BP Energy Company, et al.

Filed Date: 6/27/23.

Accession Number: 20230627-5206.

Comment Date: 5 p.m. ET 8/28/23.

Docket Numbers: ER10-2527-011; ER10-2532-019; ER10-2535-013; ER20-1610-004; ER23-842-002; ER23-843-002; ER23-1497-001; ER23-1595-001.

Applicants: LRE Energy Services, LLC, GSG Wind, LLC, Oak Trail Solar, LLC, Big Plain Solar, LLC, Lone Tree Wind, LLC, Mendota Hills, LLC, Crescent Ridge LLC, Allegheny Ridge Wind Farm, LLC.

Description: Updated Market Power Analysis for Northeast Region and Notice of Non-Material Change in Status of Allegheny Ridge Wind Farm, LLC, et al.

Filed Date: 6/28/23.

Accession Number: 20230628-5187.

Comment Date: 5 p.m. ET 8/28/23.

Docket Numbers: ER10-2906-020; ER10-2908-020; ER12-1301-011; ER15-1637-001; ER17-19-001; ER19-1716-008.

Applicants: Morgan Stanley Energy Structuring, L.L.C., Red Oak Power, LLC, Bayonne Energy Center, LLC, Zone J Tolling Co., LLC, MS Solar Solutions Corp., Morgan Stanley Capital Group Inc.

Description: Updated Market Power Analysis for Northeast Region of Morgan Stanley Capital Group Inc., et al.

Filed Date: 6/28/23.

Accession Number: 20230628-5188.

Comment Date: 5 p.m. ET 8/28/23.

Docket Numbers: ER14-1140-006; ER10-1484-030; ER12-2381-016; ER13-1069-019; ER21-2001-001; ER22-1777-002; ER22-1779-002.

Applicants: Marion County Solar Project, LLC, Madison Fields Solar Project, LLC, Shell Chemical Appalachia LLC, MP2 Energy LLC, MP2 Energy NE LLC, Shell Energy North America (US), L.P., Inspire Energy Holdings, LLC.

Description: Updated Market Power Analysis for Northeast Region and Notice of Non-Material Change in Status of Inspire Energy Holdings, LLC, et al.

Filed Date: 6/28/23.

Accession Number: 20230628-5190.

Comment Date: 5 p.m. ET 8/28/23.

Docket Numbers: ER16-1720-024; ER21-2137-008.

Applicants: IR Energy Management LLC, Invenergy Energy Management LLC.

Description: Triennial Market Power Analysis for Northeast Region of Invenergy Energy Management LLC, et al.

Filed Date: 6/28/23.

Accession Number: 20230628-5185.

Comment Date: 5 p.m. ET 8/28/23.

Docket Numbers: ER19-665-002; ER19-666-002; ER19-667-003; ER19-669-003; ER19-2621-002.

Applicants: FirstLight Power Management LLC, Northfield Mountain LLC, FirstLight MA Hydro LLC, FirstLight CT Hydro LLC, FirstLight CT Housatonic LLC.

Description: Updated Market Power Analysis for Northeast Region of FirstLight CT Housatonic LLC, et al.

Filed Date: 6/28/23.

Accession Number: 20230628-5189.

Comment Date: 5 p.m. ET 8/28/23.

Docket Numbers: ER21-1838-004; ER10-2133-026; ER11-3872-027.

Applicants: Stony Creek Energy LLC, Sheldon Energy LLC, Orangeville Energy Storage LLC.

Description: Triennial Market Power Analysis for Northeast Region of Orangeville Energy Storage LLC, et al.

Filed Date: 6/28/23.

Accession Number: 20230628-5186.

Comment Date: 5 p.m. ET 8/28/23.

Docket Numbers: ER23-66-002; ER20-2202-003; ER20-2032-003; ER10-2834-008; ER23-139-004; ER17-1438-004; ER17-2056-002; ER23-1500-001; ER10-1252-021; ER23-1501-001; ER23-1502-001; ER10-1246-021; ER10-2821-009; ER20-2671-007; ER23-138-003; ER12-1329-009.

Applicants: Wildcat Wind Farm I, LLC, Watlington Solar, LLC, Water Strider Solar, LLC, Stony Creek Wind Farm, LLC, RWE Clean Energy Wholesale Services, Inc., RWE Supply & Trading US, LLC, RWE Supply & Trading Americas, LLC, RWE Clean Energy Solutions, Inc., RWE Clean Energy QSE, LLC, RWE Renewables O&M, LLC, Radford's Run Wind Farm, LLC, Pleasant Hill Solar, LLC, Munnsville Wind Farm, LLC, Hardin Wind LLC, Cassadaga Wind LLC, Baron Winds LLC.

Description: Updated Market Power Analysis for Northeast Region of Baron Winds LLC, et al.

Filed Date: 6/28/23.

Accession Number: 20230628-5191.

Comment Date: 5 p.m. ET 8/28/23.

Docket Numbers: ER23-1855-001.

Applicants: Midcontinent Independent System Operator, Inc.

Description: Tariff Amendment: 2023-06-29_SA 3391 Ameren IL-Maple Flats Solar Energy Sub 3rd Rev GIA (J813) to be effective 4/25/2023.

Filed Date: 6/29/23.

Accession Number: 20230629-5007.

Comment Date: 5 p.m. ET 7/20/23.

Docket Numbers: ER23-2294-000.

Applicants: Vikings Energy Farm LLC.

Description: Baseline eTariff Filing: Vikings Energy Farm MBR Tariff to be effective 6/29/2023.

Filed Date: 6/28/23.

Accession Number: 20230628-5143.

Comment Date: 5 p.m. ET 7/19/23.

Docket Numbers: ER23-2296-000.

Applicants: PJM Interconnection, L.L.C.

Description: § 205(d) Rate Filing: Original NSA, Service Agreement No. 6989; Queue No. AE1-040 to be effective 5/30/2023.

Filed Date: 6/29/23.

Accession Number: 20230629-5024.

Comment Date: 5 p.m. ET 7/20/23.

Docket Numbers: ER23-2297-000.

Applicants: Midcontinent Independent System Operator, Inc., Montana-Dakota Utilities Co.

Description: § 205(d) Rate Filing: Midcontinent Independent System Operator, Inc. submits tariff filing per 35.13(a)(2)(iii: 2023-06-29_MDU Depreciation Rates to be effective 7/1/2023.

Filed Date: 6/29/23.

Accession Number: 20230629-5029.

Comment Date: 5 p.m. ET 7/20/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 29, 2023.
Debbie-Anne A. Reese,
Deputy Secretary.

[FR Doc. 2023-14253 Filed 7-5-23; 8:45 am]

BILLING CODE 6717-01-P